DEPARTMENT OF COMMERCE

Bureau of Economic Analysis

Proposed Data Sharing Activity

AGENCY: Bureau of Economic Analysis, Department of Commerce.

ACTION: Notice and request for public comment.

SUMMARY: The Bureau of Economic Analysis (BEA) proposes to provide to the Bureau of the Census (Census Bureau) data collected from the Benchmark Survey of Foreign Direct Investment in the United States—1997 and the Benchmark Survey of U.S. Direct Investment Abroad—1999 for statistical purposes exclusively. In accordance with the requirement of Section 524(d) of the Confidential Information Protection and Statistical Efficiency Act of 2002 (CIPSEA), we are providing the opportunity for public comment on this data-sharing action. Through the use of these shared data, the Census Bureau will augment its existing research and development (R&D)-related data collected in the Survey of Industrial Research and Development, which is funded by the National Science Foundation (NSF). The Census Bureau will also identify data quality issues arising from reporting differences in the BEA and Census Bureau surveys and improve its survey sample frames. The NSF will be provided non-confidential aggregate data (public use) and reports that have cleared BEA and Census Bureau disclosure review. Disclosure review is a process conducted to verify that the data to be released do not reveal any confidential information.

DATES: Written comments must be submitted on or before September 5, 2003.

ADDRESSES: Please direct all written comments on this proposed program to the Director, Bureau of Economic Analysis (BE-1), Washington, DC 20230.

FOR FURTHER INFORMATION CONTACT: Requests for additional information on this proposed program should be directed to Ned Howenstine, Chief, Research Branch, International Investment Division, Bureau of Economic Analysis (BE-50), Washington, DC 20230, by phone on (202) 606-9845 or by fax (202) 606-5318.

SUPPLEMENTARY INFORMATION:

Background

CIPSEA (Pub. L. 107-347, Title V) and the International Investment and Trade in Services Survey Act (Pub. L. 94-472, 22 United States Code (U.S.C.) 3101-3108) allow BEA and the Census Bureau to share certain business data for exclusively statistical purposes. Section 524(d) of the CIPSEA requires a Federal Register notice announcing the intent to share data (allowing 60 days for public comment).

Section 524(d) also requires us to provide information about the terms of the agreement for data sharing. For purposes of this notice, BEA has decided to group these terms by three categories. The categories are:

• Shared data.

• Statistical purposes for the shared data.

• Data access and confidentiality.

Shared Data

BEA proposes to provide the Census Bureau with data collected from the Benchmark Survey of Foreign Direct Investment in the United States—1997 and the Benchmark Survey of U.S. Direct Investment Abroad—1999. The agreement also calls for the Census Bureau to share data collected from the 1997 and 1999 Surveys of Industrial Research and Development with BEA. A separate notice (68 FR 33094, June 3, 2003) addresses this issue.

BEA will provide the Census Bureau with only those data items necessary to link records from the two benchmark surveys with records from the Census Bureau's Surveys of Industrial Research and Development. The Census Bureau will use these data for statistical purposes exclusively. Through record linkage, the Census Bureau will augment its existing R&D-related data, identify data quality issues arising from reporting differences in the Census Bureau and BEA surveys, and improve its survey sample frames.

Statistical Purposes for the Shared Data

The data collected from the Benchmark Survey of Foreign Direct Investment in the United States—1997 and the Benchmark Survey of U.S. Direct Investment Abroad—1999 are used to estimate expenditures on research and development performed by U.S. affiliates of foreign companies, foreign affiliates of U.S. companies, and the foreign affiliates' U.S. parent companies, R&D employment, and other statistics on the financial structure and operations of these companies. Statistics from the Benchmark Survey of Foreign Direct Investment in the United States—1997 were published in Foreign Direct Investment in the United States: Final Results From the 1997 Benchmark Survey; statistics from the Benchmark Survey of U.S. Direct Investment Abroad—1999 will be published in U.S. Direct Investment Abroad: Final Results From the 1999 Benchmark Survey (forthcoming). All data are collected under sections 3101-3108, of Title 22 U.S.C.

Data Access and Confidentiality

Title 22, U.S.C. 3104 protects the confidentiality of these data. The data may be seen only by persons sworn to uphold the confidentiality of the information. Access to the shared data will be restricted to specifically authorized personnel and will be provided for statistical purposes only. Any results of this research are subject to BEA disclosure protection. All Census Bureau employees with access to these data will become BEA Special Sworn Employees—meaning that they, under penalty of law, must uphold the data's confidentiality. Selected NSF employees will provide BEA with expertise on the aspects of R&D performance in the United States and by U.S. companies abroad; these NSF consultants assisting with the work at the BEA also will become BEA Special Sworn Employees. No confidential data will be provided to the NSF. To further safeguard the confidentiality of the data, BEA will conduct an Information Technology security review of the Census Bureau prior to the commencement of the project. Any results of this research are subject to BEA disclosure protection.

Dated: June 26, 2003.
J. Steven Landefeld,
Director, Bureau of Economic Analysis.

[FR Doc. 03-17097 Filed 7-3-03; 8:45 am]

BILLING CODE 3510-06-P